OFFICE OF MANAGEMENT AND BUDGET

Privacy Act of 1974; System of Records

AGENCY: Office of Management and Budget.

ACTION: Notice of a new system of records, OMB/INPUT/01.

SUMMARY: Pursuant to the Privacy Act of 1974 and Office of Management and Budget Circular No. A-130, Appendix I, Federal Agency Responsibilities for Maintaining Records About Individuals, notice is hereby given that the Office of Management and Budget (OMB) is establishing the following new system of records: “OMB Public Input System of Records, OMB/INPUT/01” (OMB Public Input System). OMB engages in a number of activities, including issuing guidance, policy, and regulatory actions, many of which invite the public and interested stakeholders to provide input to OMB. The OMB Public Input System covers the collection of that public input received through the Federal Docket Management System, Reginfo.gov, email, hardcopy communications, and other authorized means.

DATES: In accordance with 5 U.S.C. 552a(e)(4) and (11), this system of records notice (SORN) is effective April 7, 2023, with the exception of the routine uses, which are subject to a 30-day comment period and will be effective May 8, 2023. Please submit any comments on or before May 8, 2023.

ADDRESSES: You may submit comments by:

• Email: SORN@omb.eop.gov.

Instructions: All submissions must contain the subject heading “OMB Public Input System of Records.”

FOR FURTHER INFORMATION CONTACT: SORN@omb.eop.gov. You must include “OMB Public Input System of Records” in the subject line.

SUPPLEMENTARY INFORMATION: OMB engages in a number of activities, including issuing guidance, policy, and regulatory actions, many of which invite the public to provide input to OMB. One way in which OMB makes documents available for public input is through the Federal eRulemaking system, which is managed by the General Services Administration (GSA). The eRulemaking system is a centralized repository for all Federal rulemaking dockets, including notices of proposed rulemaking, interim rules, final rules, other types of rulemaking actions, supporting materials such as scientific or economic analyses, and public comments, as well as for some non-rulemaking dockets, such as notices and guidance or policy documents. It consists of a public facing interface, www.regulations.gov, and a portal visible to OMB called the Federal Docket Management System (FDMS), at www.FDMS.gov. The FDMS is a Federal Government-wide document management system. OMB employees with a need to use the system may self-register to use FDMS but may only see dockets of OMB.

Additionally, OMB uses the website at www.reginfo.gov to post notices of and accept meeting requests regarding regulatory actions currently under review pursuant to Executive Order (E.O.) 12866 of September 30, 1993 (Regulatory Planning and Review). OMB also reviews information collection requests under the Paperwork Reduction Act (PRA) and, during the 30-day review of information collections, the public may comment on materials submitted by the agency as part of their request for a new information collection or an extension or revision to an existing information collection through www.reginfo.gov. E.O. 12866 establishes and governs the process under which OMB reviews agencies' regulatory actions, including any substantive action that promulgates or is expected to lead to the promulgation of a final rule. Under E.O. 12866, non-governmental parties can request meetings concerning proposed regulatory actions under OMB review to present their views. Meeting requesters may submit to OMB documents to be discussed during the course of those meetings. OMB's meeting request form collects information from the public and is subject to the PRA. This form is assigned OMB Control Number 0348-0065 and is available at www.reginfo.gov/public/do/PRAViewICR?ref_nbr=202206-0348-001.

OMB may also receive and solicit information from the public when implementing the Information Quality Act (IQA), which aims to ensure the “quality, objectivity, utility, and integrity” of information disseminated to the public. 44 U.S.C. 3516 note. In particular, OMB may request the name and contact information of nominees for peer review, as well as query those being considered to peer review OMB documents about activities that may pose or give the appearance of a conflict of interest. Individuals who submit requests for correction to OMB under the IQA may also include their name and contact information.

In accordance with 5 U.S.C. 552a(r), OMB has provided a report of this OMB Public Input System of Records, OMB/INPUT/01, to OMB and to Congress.

SYSTEM NAME AND NUMBER:

OMB Public Input System of Records, OMB/INPUT/01.

SECURITY CLASSIFICATION:

Unclassified.

SYSTEM LOCATION:

Records are maintained at OMB, 725 17th Street NW, Washington, DC 20503, and GSA Headquarters, 1800 F Street NW, Washington, DC 20405.

SYSTEM MANAGER(S):

OMB Senior Agency Official for Privacy, 725 17th Street NW, Washington, DC; SORN@omb.eop.gov.

AUTHORITY FOR THE MAINTENANCE OF THIS SYSTEM:

Authorities of the Office of Management and Budget including the following: 31 U.S.C. 501-507; the Freedom of Information Act, 5 U.S.C. 552; Information Quality Act, 44 U.S.C. 3516 note; Paperwork Reduction Act, 44 U.S.C. 3501-3520; Foundations for Evidence-Based Policymaking Act of 2018, 5 U.S.C. 3551; Administrative Procedure Act, e.g., 5 U.S.C. 553; Privacy Act, 5 U.S.C. 552; the E-Government Act, 44 U.S.C. 3501 note; the Infrastructure Investment and Jobs Act, Public Law 117-58, 135 Stat. 429; the Federal Funding Accountability and Transparency Act (Pub. L. 109-282), 31 U.S.C. 6101 note; the Digital Accountability and Transparency Act of 2014 (Pub. L. 113-101), 31 U.S.C. 6101 note; 41 U.S.C. 1101; 44 U.S.C. 3551-3558; other statutes, such as the AI in Government Act, Pub. L. 116-260, div. U, section 104(b) (2020), specifically requiring OMB to seek public comment on proposed policy documents; and executive orders, including E.O. 14005, 86 FR 7475 (Jan. 25, 2021), and E.O. 12866, 58 FR 51735 (Oct. 4, 1993).

PURPOSE(S) OF THE SYSTEM:

OMB engages in a number of activities, including issuing guidance, policy, and regulatory actions, during which the public and interested stakeholders may be invited to provide input to OMB. The purpose of this system of records is:

• to appropriately address comments or input received from the public as part of OMB's own rulemaking and non-rulemaking actions, including obtaining clarification when necessary;

• to effectively manage the E.O. 12866 regulatory review process, including responding to meeting requests and information submissions;

• to effectively address public input received as part of OMB's development of Government-wide guidance and policy; and

• to effectively manage OMB's review of agency proposed regulatory actions and information collection requests.

CATEGORIES OF INDIVIDUALS COVERED BY THE SYSTEM:

Any individual who provides personally identifiable information to OMB when responding to a request by OMB for information, including during OMB's review or development of guidance, policy, regulatory actions, notices, or information collection requests, and other individuals mentioned or identified in the body of a comment or in the information provided, including in response to OMB solicitations concerning peer review.

CATEGORIES OF RECORDS IN THE SYSTEM:

This system includes:

• information submitted in response to OMB-specific proposed regulatory actions or other actions, including proposed and final rulemakings, SORNs, and ICRs;

• information submitted in response to OMB's invitation or request during OMB's development of Government-wide guidance and policies pursuant to one or more of its legal authorities;

• information submitted by requesters in connection with meetings under E.O. 12866;

• information submitted as part of the Government-wide information collection request review process; and

• information received for purposes of OMB's Information Quality Act responsibilities, including management of IQA requests and information about submitters or nominees for peer review.

Records may include name and contact information, such as a mailing address, email address, and phone or fax number. Records may also include additional information, including supporting documentation, submitted by individuals or entities in connection with E.O. 12866 meetings. Records submitted during a peer review function may include resumes and other personal information.

RECORD SOURCE CATEGORIES:

OMB receives records from members of the public, including representatives of Federal, State, or local governments, non-governmental organizations, and the private sector.

ROUTINE USES OF RECORDS MAINTAINED IN THE SYSTEM INCLUDING CATEGORIES OF USERS AND PURPOSES OF SUCH USES:

In addition to those disclosures generally permitted under the Privacy Act, 5 U.S.C. 552a(b), records or information contained therein may be disclosed outside of OMB as a routine use pursuant to 5 U.S.C. 552a(b)(3) as follows:

A. To GSA when needed for purposes of its management of the public websites through which comments and other information are submitted.

B. To the Department of Justice (DOJ) when any of the following is a party to litigation or has an interest in such litigation, and the use of such records by DOJ is deemed by OMB to be relevant and necessary to the litigation: (1) OMB, or any component thereof; (2) any employee of OMB in the employee's official capacity; (3) any employee of OMB in the employee's individual capacity where DOJ has agreed to represent the employee; or (4) a Federal agency, a Federal entity, a Federal official, or the United States, where OMB determines that litigation is likely to affect OMB or any of its components.

C. To a congressional office in response to an inquiry from that congressional office made at the request of the individual to whom the record pertains.

D. To the National Archives and Records Administration for purposes of records management inspections conducted under the authority of 44 U.S.C. 2904 and 2906.

E. In a proceeding before a court or adjudicative body before which OMB is authorized to appear, when OMB determines that the records are relevant and necessary to the litigation; or in an appropriate proceeding before an administrative or adjudicative body when the adjudicator determines the records to be relevant to the proceeding.

F. To appropriate agencies, entities, and persons when (1) OMB suspects or has confirmed that there has been a breach of the system of records; (2) OMB has determined that as a result of the suspected or confirmed breach there is a risk of harm to individuals, OMB (including its information systems, programs, and operations), the Federal Government, or national security; and (3) the disclosure made to such agencies, entities, and persons is reasonably necessary to assist in connection with OMB's efforts to respond to the suspected or confirmed breach or to prevent, minimize, or remedy such harm.

G. To another Federal agency or Federal entity, when OMB determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

H. Where a record, either alone or in conjunction with other information, indicates a violation or potential violation of law—criminal, civil, or regulatory in nature—the relevant records may be referred to the appropriate Federal, state, local, territorial, tribal, international, or foreign law enforcement authority or other appropriate entity charged with the responsibility for investigating or prosecuting such violation or charged with enforcing or implementing such law.

I. To contractors, grantees, experts, consultants, students, and others performing or working on a contract, service, grant, cooperative agreement, or other assignment for OMB, when necessary to accomplish an agency function related to this system of records.

J. To the public, unless it is determined that the release of the specific information in the context of a particular case would constitute a clearly unwarranted invasion of personal privacy.

K. To such recipients and under such circumstances and procedures as are mandated by Federal statute or treaty.

L. To other agencies as necessary for the review of regulatory actions or information collection requests.

POLICIES AND PRACTICES FOR STORAGE OF RECORDS:

Records in this system are stored in electronic or paper form in secure facilities. The records may be stored on magnetic disc, tape, and digital media.

POLICIES AND PRACTICES FOR RETRIEVAL OF RECORDS:

Records are retrieved by individuals' names, titles, or organizations.

POLICIES AND PRACTICES FOR RETENTION AND DISPOSAL OF RECORDS:

These records will be managed in accordance with OMB's published records schedules as approved by the National Archives and Records Administration (NARA). All unscheduled records, meaning records without a NARA-approved records retention schedule, are retained until a records retention schedule is approved by NARA. Once a schedule is approved, all existing records will be processed according to the requirements set forth in that schedule.

ADMINISTRATIVE, TECHNICAL, AND PHYSICAL SAFEGUARDS:

All records are maintained in secure, password-protected electronic systems that use security hardware and software to include multiple firewalls, active intrusion detection, encryption, identification, and authentication of users. All security controls are reviewed on a periodic basis by external assessors. The controls themselves include measures for access control, security awareness training, audits, configuration management, contingency planning, incident response, and maintenance. Access to the information technology systems containing the records in this system is limited to those individuals who need the information for the performance of their official duties and who have appropriate clearances or permissions.

RECORD ACCESS PROCEDURES:

Individuals' requests for access to records in this system of records may be sent to OMB's FOIA Officer, by mail to Office of Management and Budget, 725 17th Street NW, Room 9204, Washington, DC 20503, or by email to OMBFOIA@omb.eop.gov, and should be made in accordance with OMB's Privacy Act Procedures which can be found at 5 CFR part 1302.

CONTESTING RECORDS PROCEDURES:

Individuals' requests for amendment of a record in this system of records may be sent to OMB's FOIA Officer, by mail to Office of Management and Budget, 725 17th Street NW, Room 9204, Washington, DC 20503, or by email to OMBFOIA@omb.eop.gov, and should be made in accordance with OMB's Privacy Act Procedures, which can be found at 5 CFR part 1302.

NOTIFICATION PROCEDURES:

Individuals' requests for notification as to whether this system of records contains a record pertaining to them may be sent to OMB's FOIA Officer, by mail to Office of Management and Budget, 725 17th Street NW, Room 9204, Washington, DC 20503, or by email to OMBFOIA@omb.eop.gov, and should be made in accordance with OMB's Privacy Act Procedures, which can be found at 5 CFR part 1302.

EXEMPTIONS PROMULGATED FOR THE SYSTEM:

None.

HISTORY:

None.

Shraddha A. Upadhyaya,
Senior Agency Official for Privacy, Office of Management and Budget.

[FR Doc. 2023-07452 Filed 4-6-23; 4:15 pm]

BILLING CODE 3110-01-P